INTERNATIONAL TRADE COMMISSION

[Investigation No. 337-TA-1081]

Certain LED Lighting Devices, LED Power Supplies, and Components Thereof; Commission Determination To Amend the Notice of Investigation To Delete an Erroneously Included Respondent

AGENCY: U.S. International Trade Commission.

ACTION: Notice.

SUMMARY: Notice is hereby given that the U.S. International Trade Commission has determined to amend the notice of investigation to delete the erroneously included respondent Edgewell Personal Care Brands LLC.

FOR FURTHER INFORMATION CONTACT: Robert J. Needham, Office of the General Counsel, U.S. International Trade Commission, 500 E Street SW, Washington, DC 20436, telephone (202) 205-5468. Copies of non-confidential documents filed in connection with this investigation are or will be available for inspection during official business hours (8:45 a.m. to 5:15 p.m.) in the Office of the Secretary, U.S. International Trade Commission, 500 E Street SW, Washington, DC 20436, telephone (202) 205-2000. General information concerning the Commission may also be obtained by accessing its internet server at https://www.usitc.gov. The public record for this investigation may be viewed on the Commission's electronic docket (EDIS) at https://edis.usitc.gov. Hearing-impaired persons are advised that information on this matter can be obtained by contacting the Commission's TDD terminal on (202) 205-1810.

SUPPLEMENTARY INFORMATION: The Commission instituted this investigation on November 8, 2017, based on a complaint filed by Phillips Lighting North America Corp. of Somerset, New Jersey, and Phillips Lighting Holding B.V. of Eindhoven, Netherlands (together, “Phillips”). 82 FR 51872. The complaint alleges violations of section 337 of the Tariff Act of 1930, as amended, 19 U.S.C. 1337, in the importation into the United States, the sale for importation, and the sale within the United States after importation of certain LED lighting devices, LED power supplies, and components thereof that infringe certain claims of U.S. Patent Nos. 6,586,890; 7,038,399; 7,256,554; 7,262,559; and 8,070,328 (“the '328 patent”). Id. The Federal Register's notice of investigation names as respondents Feit Electric Company, Inc., of Pico Rivera, California; Edgewell Personal Care Brands, LLC of Shelton, Connecticut (“Edgewell”); Feit Electric Company, Inc. (China) of Xiamen, China; Lowe's Companies of Mooresville, North Carolina; L G Sourcing of North Wilkesboro, North Carolina; MSi Lighting, Inc. of Boca Raton, Florida; Satco Products, Inc. of Brentwood, New York; Topaz Lighting Corp. of Holtsville, New York; Wangs Alliance Corporation d/b/a WAC Lighting Co. of Port Washington, New York; and WAC Lighting (Shanghai) Co. Ltd., of Shanghai, China. Id. The Office of Unfair Import Investigations is not participating in this investigation. Id. The Commission previously terminated the investigation with respect to the '328 patent. Order No. 44 (May 22, 2018), not reviewed Notice (June 11, 2018).

Neither the original complaint nor the amended complaint makes any allegations against Edgewell. The Federal Register notice of investigation, however, names Edgewell as a respondent. Under Commission Rule 210.14(b) (19 CFR 210.14(b)), good cause exists to amend the notice of investigation to correct this error by deleting Edgewell.

The authority for the Commission's determination is contained in section 337 of the Tariff Act of 1930, as amended (19 U.S.C. 1337), and in Part 210 of the Commission's Rules of Practice and Procedure (19 CFR part 210).

By order of the Commission.
Issued: August 6, 2018.
Lisa Barton,
Secretary to the Commission.

[FR Doc. 2018-17072 Filed 8-8-18; 8:45 am]

BILLING CODE 7020-02-P